Proclamation 10847 of October 31, 2024

National Adoption Month, 2024

By the President of the United States of America

A Proclamation

Every child deserves to know the unconditional love of a permanent home. During National Adoption Month, we honor all the wonderful families that grow through adoption, we remind our foster youth and adoptees that we are right by their side, and we rededicate ourselves to ensuring that every child has the opportunity to reach their full potential.

More than 100,000 children are in our Nation's foster care system awaiting the adoption that could offer them familial love, a lasting home, and a stable foundation for them to grow. That is why I have called on the Congress to make the adoption tax credit fully refundable, lowering the cost of adoption and giving families and legal guardians some breathing room. I have also called on the Congress to provide housing vouchers to all 20,000 youth exiting foster care annually—a key step in helping them secure stable housing during this difficult transition. To further support kinship caregivers, the Department of Health and Human Services issued a final rule last year that requires States to provide them with the same level of financial support that other foster parents receive. My Administration is also working to eliminate barriers LGBTQI+ families face in the adoption process and ensure LGBTQI+ foster youth grow up in safe and loving environments. And through the expanded Military Parental Leave Program, we are giving service members more time to spend with their families after a child is born, adopted, or placed in their homes for long-term foster care.

My Administration also remains committed to supporting youth who are aging out of foster care. Since the beginning of my Administration, the Department of Housing and Urban Development has awarded over $60 million to provide over 4,000 vouchers to foster youth, helping them secure housing as they leave the foster care system. And my Administration is working to ensure these youth can keep their SNAP benefits without work reporting requirements, easing a difficult transition period. We have also been working to help foster youth stay in school and graduate, make the successful transition to postsecondary education, train for jobs, pay their bills, and get their lives off to a solid start.

During National Adoption Month, we celebrate the love shared by adoptive families and professionals across our country. And we honor the millions of adoptive and kinship families who have welcomed new family members into their loving homes.

NOW, THEREFORE, I, JOSEPH R. BIDEN JR., President of the United States of America, by virtue of the authority vested in me by the Constitution and the laws of the United States, do hereby proclaim November 2024 as National Adoption Month. I encourage all Americans to honor this month by helping the children and youth in their communities secure their forever homes and find the love and connection that they need to thrive.

IN WITNESS WHEREOF, I have hereunto set my hand this thirty-first day of October, in the year of our Lord two thousand twenty-four, and of the Independence of the United States of America the two hundred and forty-ninth.

[FR Doc. 2024-25802

Filed 11-4-24; 8:45 am]

Billing code 3395-F4-P